ENVIRONMENTAL PROTECTION AGENCY

40 CFR Part 180

[EPA-HQ-OPP-2014-0467; FRL-9917-03]

AAAPD and AAASD; Tolerance Exemption

AGENCY: Environmental Protection Agency (EPA).

ACTION: Final rule.

SUMMARY: This regulation establishes an exemption from the requirement of a tolerance for residues of α-alkyl (minimum C6 linear, branched, saturated and/or unsaturated)-ω-hydroxypolyoxyethylene polymer with or without polyoxypropylene, mixture of di- and monohydrogen phosphate esters and the corresponding ammonium, calcium, magnesium, monoethanolamine, potassium, sodium, and zinc salts of the phosphate esters; minimum oxyethylene content is 2 moles; minimum oxypropylene content is 0 moles, herein referred to as alkyl alcohol alkoxylate phosphate derivatives (AAAPD) and α-alkyl(C6- C15)-ω-hydroxypoly(oxyethylene)sulfate, and its ammonium, calcium, magnesium, potassium, sodium, and zinc salts, poly(oxyethylene) content averages 2-4 moles, herein referred to alkyl alcohol alkoxylate sulfate derivatives (AAASD) to include Chemical Abstract Service Registry Numbers listed in the Supplementary Information when used as an inert ingredient in a pesticide chemical formulation. Spring Trading Company, LLC., on behalf of Croda Inc. submitted a petition to EPA under the Federal Food, Drug, and Cosmetic Act (FFDCA), requesting an exemption from the requirement of a tolerance. This regulation eliminates the need to establish a maximum permissible level for residues of alkyl alcohol alkoxylate phosphate and sulfate derivatives on food or feed commodities.

DATES: This regulation is effective October 31, 2014. Objections and requests for hearings must be received on or before December 30, 2014, and must be filed in accordance with the instructions provided in 40 CFR part 178 (see also Unit I.C. of the SUPPLEMENTARY INFORMATION).

ADDRESSES: The docket for this action, identified by docket identification (ID) number EPA-HQ-OPP-2014-0467, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of 40 CFR part 180 through the Government Printing Office's e-CFR site at http://www.ecfr.gov/cgi-bin/text-idx?&c=ecfr&tpl=/ecfrbrowse/Title40/40tab_02.tpl.

C. Can I file an objection or hearing request?

Under FFDCA section 408(g), 21 U.S.C. 346a, any person may file an objection to any aspect of this regulation and may also request a hearing on those objections. You must file your objection or request a hearing on this regulation in accordance with the instructions provided in 40 CFR part 178. To ensure proper receipt by EPA, you must identify docket ID number EPA-HQ-OPP-2014-0467 in the subject line on the first page of your submission. All objections and requests for a hearing must be in writing, and must be received by the Hearing Clerk on or before December 30, 2014. Addresses for mail and hand delivery of objections and hearing requests are provided in 40 CFR 178.25(b).

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID number EPA-HQ-OPP-2014-0467, by one of the following methods.

• Federal eRulemaking Portal: http://www.regulations.gov. Follow the online instructions for submitting comments. Do not submit electronically any information you consider to be CBI or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

II. Petition for Exemption

In the Federal Register of July 29, 2009 (74 FR 37571) (FRL-8424-6), EPA issued a Final Rule, announcing the establishment of a tolerance exemption pursuant to a pesticide petition (PP 9E7533) by the Joint Inerts Task Force (JITF) Cluster Support Team Number 2 (CST 2) c/o CropLife America, 1156 15th Street NW., Suite 400, Washington, DC 20005. The petition requested that 40 CFR 180.910, 40 CFR 180.920, and 40 CFR 180.930 be amended by establishing exemptions from the requirement of a tolerance for residues of a group of substances known as alkyl alcohol alkoxylate phosphate and sulfate derivatives. The exemptions narratively describe the subject chemical as α-alkyl (minimum C6 linear, branched, saturated and/or unsaturated)-ω-hydroxypolyoxyethylene polymer with or without polyoxypropylene, mixture of di- and monohydrogen phosphate esters and the corresponding ammonium, calcium, magnesium, monoethanolamine, potassium, sodium, and zinc salts of the phosphate esters; minimum oxyethylene content is 2 moles; minimum oxypropylene content is 0 moles and α- alkyl (C6-C15)-ω hydroxypoly(oxyethylene)sulfate, and its ammonium, calcium, magnesium, potassium, sodium, and zinc salts, poly(oxyethylene) content averages 2-4 moles.

In the Federal Register of August 20, 2010 (75 FR 51382) (FRL-8836-5), EPA issued a Final Rule, announcing the establishment of a tolerance exemption pursuant to a pesticide petition (PP 9E7628) by the JITF CST 2 c/o CropLife America, 1156 15th Street NW., Suite 400, Washington, DC 20005. The petition requested that 40 CFR 180.910 and 40 CFR 180.930 be amended by establishing an exemption from the requirement of a tolerance for residues of a group of substances known as AAAPD.

In the Federal Register of February 21, 2014 (79 FR 9856) (FRL-9906-24) EPA issued a Final Rule, announcing the establishment of a tolerance exemption pursuant to a pesticide petition (PP 2E8092) by JITF CST2, c/o Huntsman Corp., 8600 Gosling Rd., The Woodlands, TX 77381. The petition requested that 40 CFR 180.910 and 40 CFR 180.930 be amended by establishing an exemption from the requirement of a tolerance for residues of a group of substances known as AAAPD and AAASD.

The current petition seeks to expand the exemptions for AAAPD and AAASD by adding additional chemicals identified by CAS Reg. Nos. in the Federal Register of September 5, 2014 (79 FR 53012) (FRL-9914-98), EPA issued a document pursuant to FFDCA section 408, 21 U.S.C. 346a, announcing the receipt of a pesticide petition (PP IN-10690) filed by Spring Trading Company, LLC., 10805 W. Timberwagon Circle, Spring, Texas 77380 on behalf of Croda Inc., 315 Cherry Lane, New Castle, DE 19720 for post-harvest use on agricultural crops under 40 CFR § 180.910 and when applied to animals under 40 CFR 180.930 for the following used as surfactants not to exceed 30% of pesticide formulation to include CAS Reg. No. 3694-74-4, 37281-86-0, 9086-52-6, 51325-10-1, 52019-38-2, 52019-38-2, 58206-38-5, 58857-49-1, 62482-61-5, 63887-54-7, 66020-37-9, 66281-20-7, 68332-75-2, 68400-75-9, 70844-96-1, 78041-18-6, 82465-25-6, 84843-37-8, 95014-34-9, 99924-51-3, 120913-45-3, 123339-53-7, 129208-04-4, 144336-75-4, 146815-57-8, 151688-56-1, 15826-16-1, 159704-69-5, 172027-16-6, 172274-69-0, 176707-42-9, 181963-82-6, 188741-55-1, 191940-53-1, 210993-53-6, 25446-78-0, 27731-61-9, 290348-69-5, 290348-70-8, 340681-28-9, 422563-26-6, 522613-09-8, 55901-67-2, 61894-66-4, 63428-85-3, 65104-74-7, 65122-38-5, 67762-19-0, 67762-21-4, 67923-90-4, 68611-29-0, 717140-06-2, 717140-09-5, 717827-29-7, 762245-80-7, 762245-81-8, 866538-89-8, 866538-90-1, 913068-96-9, 1087209-87-7, 1174313-54-2, 119432-41-6, 1205632-03-6, 1233235-49-8, 1451002-50-8, 1456802-88-2, 1456802-89-3, 1456803-12-5, and 219756-63-5. That document included a summary of the petition prepared by the petitioner, which is available in the docket, http://www.regulations.gov, and solicited comments on the petitioner's request. The Agency did not receive any comments.

Based upon review of the data supporting the petition, EPA has confirmed that the requested CAS Reg. Nos. are acceptable for consideration under the currently approved descriptor. This limitation is based on the Agency's risk assessment which can be found at http://www.regulations.gov in document PP 2E8092 entitled “Alkyl Alcohol Alkoxylate Phosphate and Sulfate Derivatives (Multiple CAS #s): Request to amend existing tolerance exemptions under 40 CFR 180.910 and 180.930” in docket ID number EPA-HQ-OPP-2012-0862.

III. Risk Assessment and Statutory Findings

Inert ingredients are all ingredients that are not active ingredients as defined in 40 CFR 153.125 and include, but are not limited to, the following types of ingredients (except when they have a pesticidal efficacy of their own): Solvents such as alcohols and hydrocarbons; surfactants such as polyoxyethylene polymers and fatty acids; carriers such as clay and diatomaceous earth; thickeners such as carrageenan and modified cellulose; wetting, spreading, and dispersing agents; propellants in aerosol dispensers; microencapsulating agents; and emulsifiers. The term “inert” is not intended to imply nontoxicity; the ingredient may or may not be chemically active. Generally, EPA has exempted inert ingredients from the requirement of a tolerance based on the low toxicity of the individual inert ingredients.

Section 408(c)(2)(A)(i) of FFDCA allows EPA to establish an exemption from the requirement for a tolerance (the legal limit for a pesticide chemical residue in or on a food) only if EPA determines that the exemption is “safe.” Section 408(c)(2)(A)(ii) of FFDCA defines “safe” to mean that “there is a reasonable certainty that no harm will result from aggregate exposure to the pesticide chemical residue, including all anticipated dietary exposures and all other exposures for which there is reliable information.” This includes exposure through drinking water and use in residential settings, but does not include occupational exposure. Section 408(b)(2)(C) of FFDCA requires EPA to give special consideration to exposure of infants and children to the pesticide chemical residue in establishing an exemption from the requirement of a tolerance and to “ensure that there is a reasonable certainty that no harm will result to infants and children from aggregate exposure to the pesticide chemical residue . . .” and specifies factors EPA is to consider in establishing an exemption.

EPA establishes exemptions from the requirement of a tolerance only in those cases where it can be shown that the risks from aggregate exposure to pesticide chemical residues under reasonably foreseeable circumstances will pose no appreciable risks to human health. In order to determine the risks from aggregate exposure to pesticide inert ingredients, the Agency considers the toxicity of the inert in conjunction with possible exposure to residues of the inert ingredient through food, drinking water, and through other exposures that occur as a result of pesticide use in residential settings. If EPA is able to determine that a finite tolerance is not necessary to ensure that there is a reasonable certainty that no harm will result from aggregate exposure to the inert ingredient, an exemption from the requirement of a tolerance may be established.

Consistent with FFDCA section 408(b)(2)(D), EPA has reviewed the available scientific data and other relevant information in support of this action and considered its validity, completeness and reliability and the relationship of this information to human risk. EPA has also considered available information concerning the variability of the sensitivities of major identifiable subgroups of consumers, including infants and children. In the case of certain chemical substances that are defined as polymers, the Agency has established a set of criteria to identify categories of polymers expected to present minimal or no risk. The definition of a polymer is given in 40 CFR 723.250(b) and the exclusion criteria for identifying these low-risk polymers are described in 40 CFR 723.250(d). EPA has sufficient data to assess the hazards of and to make a determination on aggregate exposure for AAAPD and AAASD including exposure resulting from the exemption established by this action. EPA's assessment of exposures and risks associated with AAAPD and AAASD follows.

The Agency agrees with the petitioner that CAS Reg. No.: 3694-74-4, 37281-86-0, 9086-52-6, 51325-10-1, 52019-38-2, 52019-38-2, 58206-38-5, 58857-49-1, 62482-61-5, 63887-54-7, 66020-37-9, 66281-20-7, 68332-75-2, 68400-75-9, 70844-96-1, 78041-18-6, 82465-25-6, 84843-37-8, 95014-34-9, 99924-51-3, 120913-45-3, 123339-53-7, 129208-04-4, 144336-75-4, 146815-57-8, 151688-56-1, 15826-16-1, 159704-69-5, 172027-16-6, 172274-69-0, 176707-42-9, 181963-82-6, 188741-55-1, 191940-53-1, 210993-53-6, 25446-78-0, 27731-61-9, 290348-69-5, 290348-70-8, 340681-28-9, 422563-26-6, 522613-09-8, 55901-67-2, 61894-66-4, 63428-85-3, 65104-74-7, 65122-38-5, 67762-19-0, 67762-21-4, 67923-90-4, 68611-29-0, 717140-06-2, 717140-09-5, 717827-29-7, 762245-80-7, 762245-81-8, 866538-89-8, 866538-90-1, 913068-96-9, 1087209-87-7, 1174313-54-2, 119432-41-6, 1205632-03-6, 1233235-49-8, 1451002-50-8, 1456802-88-2, 1456802-89-3, 1456803-12-5, and 219756-63-5 are AAAPD and AAASD similar to those present in the existing exemption. In 2009, in establishing the exemption for the AAAPD and AAASD, EPA assessed their safety generally using worst case exposure assumptions (74 FR 37571) (FRL-8424-6). EPA concluded that that assessment showed that exempting AAAPD and AAASD from the requirement from a tolerance would be safe. Inclusion of additional chemicals described above in the risk assessment for the AAAPD and AAASD would in no way alter that prior risk assessment given the generic findings on toxicity and the worst case exposure assumptions used in that risk assessment. Accordingly, based on the findings in that earlier rule, EPA has determined that there is a reasonable certainty that no harm to any population subgroup, including infants and children, will result from aggregate exposure to AAAPD and AAASD, by including the additional chemicals described above, under reasonably foreseeable circumstances. Therefore, the amendment of an exemption from tolerance under 40 CFR 180.910 and 180.930, for residues of AAAPD and AAASD to include the chemicals described above is safe under FFDCA section 408.

IV. Other Considerations

A. Analytical Enforcement Methodology

An analytical method is not required for enforcement purposes since the Agency is establishing an exemption from the requirement of a tolerance without any numerical limitation.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint United Nation Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for AAAPD and AAASD.

V. Conclusions

Therefore, an exemption from the requirement of a tolerance is established under 40 CFR 180.910 and 180.930 for AAAPD and AAASD when used as an inert ingredient for post-harvest use on agricultural crops under 40 CFR 180.910 and when applied to animals under 40 CFR 180.930 used as surfactants not to exceed 30% of pesticide formulation.

VI. Statutory and Executive Order Reviews

This final rule establishes a tolerance under FFDCA section 408(d) in response to a petition submitted to the Agency. The Office of Management and Budget (OMB) has exempted these rules from review under Executive Order 12866, entitled “Regulatory Planning and Review” (58 FR 51735, October 4, 1993). Because this final rule has been exempted from review under Executive Order 12866, this final rule is not subject to Executive Order 13211, entitled “Actions Concerning Regulations That Significantly Affect Energy Supply, Distribution, or Use” (66 FR 28355, May 22, 2001) or Executive Order 13045, entitled “Protection of Children from Environmental Health Risks and Safety Risks” (62 FR 19885, April 23, 1997). This final rule does not contain any information collections subject to OMB approval under the Paperwork Reduction Act (PRA) (44 U.S.C. 3501 et seq.), nor does it involve any technical standards that would require Agency consideration of voluntary consensus standards pursuant to section 12(d) of the National Technology Transfer and Advancement Act of 1995 (NTTAA) (15 U.S.C. 272 note).

Since tolerances and exemptions that are established on the basis of a petition under FFDCA section 408(d), such as the tolerance in this final rule, do not require the issuance of a proposed rule, the requirements of the Regulatory Flexibility Act (RFA) (5 U.S.C. 601 et seq.), do not apply.

This final rule directly regulates growers, food processors, food handlers, and food retailers, not States or tribes, nor does this action alter the relationships or distribution of power and responsibilities established by Congress in the preemption provisions of FFDCA section 408(n)(4). As such, the Agency has determined that this action will not have a substantial direct effect on States or tribal governments, on the relationship between the national government and the States or tribal governments, or on the distribution of power and responsibilities among the various levels of government or between the Federal Government and Indian tribes, or otherwise have any unique impacts on local governments. Thus, the Agency has determined that Executive Order 13132, entitled “Federalism” (64 FR 43255, August 10, 1999) and Executive Order 13175, entitled “Consultation and Coordination with Indian Tribal Governments” (65 FR 67249, November 9, 2000) do not apply to this final rule. In addition, this final rule does not impose any enforceable duty or contain any unfunded mandate as described under Title II of the Unfunded Mandates Reform Act of 1995 (UMRA) (2 U.S.C. 1501 et seq.).

Although this action does not require any special considerations under Executive Order 12898, entitled “Federal Actions to Address Environmental Justice in Minority Populations and Low-Income Populations” (59 FR 7629, February 16, 1994), EPA seeks to achieve environmental justice, the fair treatment and meaningful involvement of any group, including minority and/or low-income populations, in the development, implementation, and enforcement of environmental laws, regulations, and policies. As such, to the extent that information is publicly available or was submitted in comments to EPA, the Agency considered whether groups or segments of the population, as a result of their location, cultural practices, or other factors, may have atypical or disproportionately high and adverse human health impacts or environmental effects from exposure to the pesticide discussed in this document, compared to the general population.

VII. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: October 24, 2014.
Susan Lewis,
Director, Registration Division, Office of Pesticide Programs.

Therefore, 40 CFR chapter I is amended as follows:

PART 180—[AMENDED]

1. The authority citation for part 180 continues to read as follows:

Authority: 21 U.S.C. 321(q), 346a and 371.

2. In § 180.910, the table is amended by revising the following inert ingredients to read as follows:

§ 180.910 Inert ingredients used pre- and post-harvest; exemptions from the requirement of a tolerance.

* * * * *

Inert ingredients | Limits | Uses
* * * * * * *
α-alkyl(C6- C15)-ω-hydroxypoly(oxyethylene)sulfate, and its ammonium, calcium, magnesium, potassium, sodium, and zinc salts, poly(oxyethylene) content averages 2-4 moles (CAS Reg. Nos.: 3088-31-1, 3694-74-4, 9004-82-4, 9004-84-6, 9021-91-4, 9086-52-6, 13150-00-0, 15826-16-1, 25446-78-0, 26183-44-8, 27140-00-7, 27731-62-0, 32612-48-9, 34431-25-9, 35015-74-8, 50602-06-7, 52286-18-7, 52286-19-8, 54116-08-4, 55901-67-2, 61702-79-2, 61894-66-4, 62755-21-9, 63428-85-3, 63428-86-4, 63428-87-5, 65086-57-9, 65086-79-5, 65104-74-7, 65122-38-5, 67674-66-2, 67762-19-0, 67762-21-4, 67845-82-3, 67845-83-4, 67923-90-4, 68037-05-8, 68037-06-9, 68171-41-5, 68424-50-0, 68511-39-7, 68585-34-2, 68610-66-2, 68611-29-0, 68611-55-2, 68649-53-6, 68890-88-0, 68891-29-2, 68891-30-5, 68891-38-3, 69011-37-6, 73665-22-2, 75422-21-8, 78330-16-2, 78330-17-3, 78330-25-3, 78330-26-4, 78330-27-5, 78330-28-6, 78330-29-7, 78330-30-0, 96130-61-9, 106597-03-9, 110392-50-2, 119432-41-6, 125301-88-4, 125301-89-5, 125301-92-0, 125736-54-1, 157707-85-2, 160104-51-8, 160901-27-9, 160901-28-0, 160901-29-1, 160901-30-4, 161025-28-1, 161074-79-9, 162063-19-6, 219756-63-5) | Not to exceed 30% of formulation | Surfactants, related adjuvants of surfactants.
| * * * * * * *
α-alkyl (minimum C6 linear, branched, saturated and/or unsaturated)-ω-hydroxypolyoxyethylene polymer with or without polyoxypropylene, mixture of di- and monohydrogen phosphate esters and the corresponding ammonium, calcium, magnesium, monoethanolamine, potassium, sodium, and zinc salts of the phosphate esters; minimum oxyethylene content is 2 moles; minimum oxypropylene content is 0 moles (CAS Reg. Nos.: 9004-80-2, 9046-01-9, 26982-05-8, 31800-89-2, 37280-82-3, 37281-86-0, 39341-09-8, 39341-65-6, 39464-66-9, 39464-69-2, 42612-52-2, 50643-20-4, 50668-50-3, 51325-10-1, 51884-64-1, 52019-36-0, 57486-09-6, 58206-38-5, 58318-92-6, 58857-49-1, 59112-71-9, 60267-55-2, 61837-79-4, 62362-49-6, 62482-61-5, 63747-86-4, 63887-54-7, 63887-55-8, 66020-37-9, 66272-25-1, 66281-20-7, 67711-84-6, 67786-06-5, 67989-06-4, 68070-99-5, 68071-17-0, 68071-35-2, 68071-37-4, 68130-44-9, 68130-45-0, 68130-46-1, 68130-47-2, 68186-29-8, 68186-34-5, 68186-36-7, 68186-37-8, 68238-84-6, 68311-02-4, 68311-04-6, 68332-75-2, 68389-72-0, 68400-75-9, 68413-78-5, 68425-73-0, 68425-75-2, 68439-39-4, 68458-48-0, 68511-15-9, 68511-36-4, 68511-37-5, 68551-05-3, 68585-15-9, 68585-16-0, 68585-17-1, 68585-36-4, 68585-39-7, 68603-24-7, 68607-14-7, 68610-64-0, 68610-65-1, 68649-29-6, 68649-30-9, 68650-84-0, 68815-11-2, 68855-46-9, 68856-03-1, 68890-90-4, 68890-91-5, 68891-12-3, 68891-13-4, 68891-26-9, 68908-64-5, 68909-65-9, 68909-67-1, 68909-69-3, 68921-24-4, 68921-60-8, 68954-87-0, 68954-88-1, 68954-92-7, 68987-35-9, 69029-43-2, 69980-69-4, 70247-99-3, 70248-14-5, 70844-96-1, 70903-63-8, 71965-23-6, 71965-24-7, 72480-27-4, 72623-67-7, 72623-68-8, 72828-56-9, 72828-57-0, 73018-34-5, 73038-25-2, 73050-08-5, 73050-09-6, 73361-29-2, 73378-71-9, 73378-72-0, 73559-42-9, 73559-43-0, 73559-44-1, 73559-45-2, 74499-76-6, 76930-25-1, 78041-18-6, 78330-22-0, 78330-24-2, 82465-25-6, 84843-37-8, 91254-26-1, 93925-54-3, 95014-34-9, 96416-89-6, 99924-51-3, 103170-31-6, 103170-32-7, 106233-09-4, 106233-10-7, 108818-88-8, 110392-49-9, 111798-26-6, 111905-50-1, 116671-23-9, 117584-36-8, 119415-05-3, 120913-45-3, 121158-61-0, 121158-63-2, 123339-53-7, 125139-13-1, 125301-86-2, 125301-87-3, 126646-03-5, 129208-04-4, 129870-77-5, 129870-80-0, 130354-37-9, 136504-88-6, 143372-50-3, 143372-51-4, 144336-75-4, 146815-57-8, 151688-56-1, 154518-39-5, 154518-40-8, 155240-11-2, 159704-69-5, 160498-49-7, 160611-24-5, 171543-66-1, 172027-16-6, 172274-69-0, 176707-42-9, 181963-82-6, 188741-55-1, 191940-53-1, 210493-60-0, 210993-53-6, 246159-55-7, 251298-11-0, 261627-68-3, 290348-69-5, 290348-70-8, 317833-96-8, 340681-28-9 , 422563-19-7, 422563-26-6, 522613-09-8, 717140-06-2, 717140-09-5, 717827-29-7, 762245-80-7, 762245-81-8, 866538-89-8, 866538-90-1, 873662-29-4, 913068-96-9, 936100-29-7, 936100-30-0, 1072943-56-6, 1087209-87-7, 1174313-54-2, 1187742-89-7, 1187743-35-6, 1205632-03-6, 1233235-49-8, 1451002-50-8, 1456802-88-2, 1456802-89-3, 1456803-12-5) | Not to exceed 30% of formulation | Surfactants, related adjuvants of surfactants.
* * * * * * *

3. In § 180.930, the table is amended by revising the following inert ingredients to read as follows:

§ 180.930 Inert ingredients applied to animals; exemptions from the requirement of a tolerance.

* * * * *

Inert ingredients | Limits | Uses
* * * * * * *
α-alkyl (minimum C6 linear, branched, saturated and/or unsaturated)-ω-hydroxypolyoxyethylene polymer with or without polyoxypropylene, mixture of di- and monohydrogen phosphate esters and the corresponding ammonium, calcium, magnesium, monoethanolamine, potassium, sodium, and zinc salts of the phosphate esters; minimum oxyethylene content is 2 moles; minimum oxypropylene content is 0 moles, (CAS Reg. Nos.: 9004-80-2, 9046-01-9, 26982-05-8, 31800-89-2, 37280-82-3, 37281-86-0, 39341-09-8, 39341-65-6, 39464-66-9, 39464-69-2, 42612-52-2, 50643-20-4, 50668-50-3, 51325-10-1, 51884-64-1, 52019-36-0, 52019-38-2, 52019-38-2, 57486-09-6, 58206-38-5, 58318-92-6, 58857-49-1, 59112-71-9, 60267-55-2, 61837-79-4, 62362-49-6, 62482-61-5, 63747-86-4, 63887-54-7, 63887-55-8, 66020-37-9, 66272-25-1, 66281-20-7, 67711-84-6, 67786-06-5, 67989-06-4, 68070-99-5, 68071-17-0, 68071-35-2, 68071-37-4, 68130-44-9, 68130-45-0, 68130-46-1, 68130-47-2, 68186-29-8, 68186-34-5, 68186-36-7, 68186-37-8, 68238-84-6, 68311-02-4, 68311-04-6, 68332-75-2, 68389-72-0, 68400-75-9, 68413-78-5, 68425-73-0, 68425-75-2, 68439-39-4, 68458-48-0, 68511-15-9, 68511-36-4, 68511-37-5, 68551-05-3, 68585-15-9, 68585-16-0, 68585-17-1, 68585-36-4, 68585-39-7, 68603-24-7, 68607-14-7, 68610-64-0, 68610-65-1, 68649-29-6, 68649-30-9, 68650-84-0, 68815-11-2, 68855-46-9, 68856-03-1, 68890-90-4, 68890-91-5, 68891-12-3, 68891-13-4, 68891-26-9, 68908-64-5, 68909-65-9, 68909-67-1, 68909-69-3, 68921-24-4, 68921-60-8, 68954-87-0, 68954-88-1, 68954-92-7, 68987-35-9, 69029-43-2, 69980-69-4, 70247-99-3, 70248-14-5, 70844-96-1, 70903-63-8, 71965-23-6, 71965-24-7, 72480-27-4, 72623-67-7, 72623-68-8, 72828-56-9, 72828-57-0, 73018-34-5, 73038-25-2, 73050-08-5, 73050-09-6, 73361-29-2, 73378-71-9, 73378-72-0, 73559-42-9, 73559-43-0, 73559-44-1, 73559-45-2, 74499-76-6, 76930-25-1, 78041-18-6, 78330-22-0, 78330-24-2, 82465-25-6, 84843-37-8, 91254-26-1, 93925-54-3, 95014-34-9, 96416-89-6, 99924-51-3, 103170-31-6, 103170-32-7, 106233-09-4, 106233-10-7, 108818-88-8, 110392-49-9, 111798-26-6, 111905-50-1, 116671-23-9, 117584-36-8, 119415-05-3, 120913-45-3, 121158-61-0, 121158-63-2, 123339-53-7, 125139-13-1, 125301-86-2, 125301-87-3, 126646-03-5, 129208-04-4, 129870-77-5, 129870-80-0, 130354-37-9, 136504-88-6, 143372-50-3, 143372-51-4, 144336-75-4, 146815-57-8, 151688-56-1, 154518-39-5, 154518-40-8, 155240-11-2, 159704-69-5, 160498-49-7, 160611-24-5, 171543-66-1, 172027-16-6, 172274-69-0, 176707-42-9, 181963-82-6, 188741-55-1, 191940-53-1, 210493-60-0, 210993-53-6, 246159-55-7, 251298-11-0, 261627-68-3, 290348-69-5, 290348-70-8, 317833-96-8, 340681-28-9, 422563-19-7, 422563-26-6, 522613-09-8, 717140-06-2, 717140-09-5, 717827-29-7, 762245-80-7, 762245-81-8, 866538-89-8, 866538-90-1, 873662-29-4, 913068-96-9, 936100-29-7, 936100-30-0, 1072943-56-6, 1087209-87-7, 1174313-54-2, 1187742-89-7, 1187743-35-6, 1205632-03-6, 1233235-49-8, 1451002-50-8, 1456802-88-2, 1456802-89-3, 1456803-12-5) | Not to exceed 30% of formulation | Surfactants, related adjuvants of surfactants.
* * * * * * *
α-alkyl(C6- C15)-ω-hydroxypoly(oxyethylene)sulfate, and its ammonium, calcium, magnesium, potassium, sodium, and zinc salts, poly(oxyethylene) content averages 2-4 moles (CAS Reg. Nos.: 3088-31-1, 3694-74-4, 9004-82-4, 9004-84-6, 9021-91-4, 9086-52-6, 13150-00-0, 15826-16-1, 25446-78-0, 26183-44-8, 27140-00-7, 27731-61-9, 27731-61-9, 27731-62-0, 32612-48-9, 34431-25-9, 35015-74-8, 50602-06-7, 52286-18-7, 52286-19-8, 54116-08-4, 55901-67-2, 61702-79-2, 61894-66-4, 62755-21-9, 63428-85-3, 63428-86-4, 63428-87-5, 65086-57-9, 65086-79-5, 65104-74-7, 65122-38-5, 67674-66-2, 67762-19-0, 67762-21-4, 67845-82-3, 67845-83-4, 67923-90-4, 68037-05-8, 68037-06-9, 68171-41-5, 68424-50-0, 68511-39-7, 68585-34-2, 68610-66-2, 68611-29-0, 68611-55-2, 68649-53-6, 68890-88-0, 68891-29-2, 68891-30-5, 68891-38-3, 69011-37-6, 73665-22-2, 75422-21-8, 78330-16-2, 78330-17-3, 78330-25-3, 78330-26-4, 78330-27-5, 78330-28-6, 78330-29-7, 78330-30-0, 96130-61-9, 106597-03-9, 110392-50-2, 119432-41-6, 125301-88-4, 125301-89-5, 125301-92-0, 125736-54-1, 157707-85-2, 160104-51-8, 160901-27-9, 160901-28-0, 160901-29-1, 160901-30-4, 161025-28-1, 161074-79-9, 162063-19-6, 219756-63-5) | Not to exceed 30% of formulation | Surfactants, related adjuvants of surfactants.
* * * * * * *

[FR Doc. 2014-25949 Filed 10-30-14; 8:45 am]

BILLING CODE 6560-50-P